NUCLEAR REGULATORY COMMISSION

[Docket Nos. 50-333, 50-271, and 50-293; NRC-2013-0192]

Entergy Nuclear Operations, Inc., James A. Fitzpatrick Nuclear Power Plant, Vermont Yankee Nuclear Power Station, Pilgrim Nuclear Power Station, Request for Action

AGENCY: Nuclear Regulatory Commission.

ACTION: Request for action; receipt.

SUMMARY: The U.S. Nuclear Regulatory Commission (NRC) is giving notice that by petition dated March 18, 2013, as supplemented on April 23, June 28, and July 22, 2013, Timothy Judson, the petitioner, on behalf of Alliance for a Green Economy, Citizens Awareness Network, Vermont Citizens Action Network, Pilgrim Watch, and Beyond Nuclear (hereafter referred to as “the petitioners”) has requested that the NRC take action with regard to James A. Fitzpatrick Nuclear Power Plant, Vermont Yankee Nuclear Power Station, and Pilgrim Nuclear Power Station. The petitioners' requests are included in the SUPPLEMENTARY INFORMATION section of this document.

ADDRESSES: Please refer to Docket ID NRC-2013-0192 when contacting the NRC about the availability of information regarding this document. You may access publicly-available information related to this action by the following methods:

• Federal Rulemaking Web site: Go to http://www.regulations.gov and search for Docket ID NRC-2013-0192. Address questions about NRC dockets to Carol Gallagher; telephone: 301-287-3422; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: On March 18, 2013 (ADAMS Accession No. ML13079A022), the petitioners requested that the NRC take action with regard to James A. Fitzpatrick Nuclear Power Plant (Fitzpatrick), Vermont Yankee Nuclear Power Station (Vermont Yankee), and Pilgrim Nuclear Power Station (Pilgrim). The petitioners supplemented the petition on April 23, June 28, and July 22, 2013 (ADAMS Accession Nos. ML13133A161, ML13184A109, and ML13205A251, respectively). The petitioners met with the Petition Review Board (PRB) on May 7, 2013, to discuss the petition; the transcript of that meeting is an additional supplement to the petition (ADAMS Accession No. ML13135A001). The petitioners request that the NRC take enforcement action against Entergy Nuclear Operations, Inc. (Entergy) to: (1) Suspend operations at Fitzpatrick and Vermont Yankee; (2) investigate whether Entergy possesses sufficient funds to cease operations and to decommission the Fitzpatrick reactor and Vermont Yankee reactor, per Title 10 of the Code of Federal Regulations (10 CFR), Part 50, Section 75 (10 CFR 50.75); and (3) investigate Entergy's current financial qualifications per 10 CFR 50.33(f)(5) for Pilgrim to determine whether the licensee remains qualified to continue safe operation of the facility.

As the basis for this request, the petitioners state that Entergy no longer meets the financial qualifications requirements to possess the licenses and operate Fitzpatrick and Vermont Yankee, pursuant to 10 CFR 50.80(b)(1)(i) and 10 CFR 50.33(f)(2) and that Entergy may no longer meet the same licensing requirements for Pilgrim.

The request is being treated pursuant to 10 CFR 2.206 of the Commission's regulations. The request has been referred to the Director of the Office of Nuclear Reactor Regulation. As provided by 10 CFR 2.206, appropriate action will be taken on this petition within a reasonable time.

Dated at Rockville, Maryland, this 7th day of August 2013.
For the Nuclear Regulatory Commission.
Jennifer L. Uhle,
Deputy Director, Reactor Safety Programs, Office of Nuclear Reactor Regulation.

[FR Doc. 2013-20145 Filed 8-16-13; 8:45 am]

BILLING CODE 7590-01-P